DEPARTMENT OF TRANSPORTATION

Research and Special Programs Administration

[Docket No. RSPA-2004-16964 (Notice No. 04-1)]

Information Collection Activities

AGENCY: Research and Special Programs Administration.

ACTION: Notice and request for comments.

SUMMARY: In accordance with the Paperwork Reduction Act of 1995, the Research and Special Programs Administration (RSPA, we) invites comments on certain information collections pertaining to hazardous materials transportation for which RSPA intends to request renewal from the Office of Management and Budget (OMB).

DATES: Interested persons are invited to submit comments on or before May 7, 2004.

ADDRESSES: You may submit comment by any of the following methods:

• Web site: http://dms.dot.gov. Follow the instructions for submitting comments on the Department of Transportation (DOT) electronic docket site.

• Fax: 1-202-493-2251.

• Mail: Docket Management System, U.S. Department of Transportation, 400 Seventh St., SW., Washington, DC 20590-0001.

• Hand delivery: To the Docket Management System, Room PL-401 on the Plaza Level of the Nassif Building, 400 Seventh Street, SW., Washington, DC between 9 a.m. and 5 p.m. Monday through Friday, except Federal holidays.

Instructions: You must include the agency name and docket number RSPA-2004-16964 (Notice No. 04-1) for this notice at the beginning of your comment. Comments are to be submitted in duplicate. Persons wishing to receive confirmation of receipt of their comments must include a self-addressed stamped postcard. Internet users may access all comments received by the Department of Transportation at http://dms.dot.gov. Note that all comments received will be posted without change to http://dms.dot.gov including any personal information provided. Please see the Privacy Act section of this document.

Docket: You may view the public docket through the Internet at http://dms.dot.gov or in person at the Docket Management System office at the address listed above.

Direct requests for a copy of an information collection to Deborah Boothe or T. Glenn Foster, at the U.S. Department of Transportation, Office of Hazardous Materials Standards (DHM-10), 400 Seventh St., SW., Washington, DC 20590-0001.

FOR FURTHER INFORMATION CONTACT: Deborah Boothe or T. Glenn Foster, Office of Hazardous Materials Standards (DHM-10) at the address listed above.

Privacy Act: Anyone is able to search the electronic form of all comments received into any of our dockets by the name of the individual submitting the comment (or signing the comment, if submitted on behalf of an association, business, labor union, etc.). You may review DOT's complete Privacy Act Statement in the Federal Register published on April 11, 2000 (volume 65, number 70, pages 19477-78) or you may visit http://dms.dot.gov.

SUPPLEMENTARY INFORMATION: Section 1320.8 (d), title 5, Code of Federal Regulations requires RSPA to provide the public and affected agencies an opportunity to comment on information collection and recordkeeping requests. This notice identifies information collections RSPA is submitting to OMB for renewal and extension. These collections are contained in 49 CFR parts 110 and 130 and the Hazardous Materials Regulations (HMR; 49 CFR parts 171-180). RSPA has revised burden estimates, where appropriate, to reflect current reporting levels or adjustments based on changes in proposed or final rules published since the information collections were last approved. The following information is provided for each information collection: (1) Title of the information collection, including former title if a change is being made; (2) OMB control number; (3) summary of the information collection activity; (4) description of affected public; (5) estimate of total annual reporting and recordkeeping burden; and (6) frequency of collection. RSPA will request a three-year term of approval for each information collection activity and, when approved by OMB, publish notice of the approval in the Federal Register.

RSPA requests comments on the following information collections:

Title: Requirements for Cargo Tanks.

OMB Control Number: 2137-0014.

Summary: This information collection consolidates and describes the information collection provisions in parts 178 and 180 of the HMR involving the manufacture, qualification, maintenance and use of all specification cargo tank motor vehicles. It also includes the information collection and recordkeeping requirements for persons who are engaged in the manufacture, assembly, requalification and maintenance of DOT specification cargo tank motor vehicles. The types of information collected include:

(1) Registration statements: Cargo tank manufacturers and repairers, and cargo tank motor vehicle assemblers are required to register with DOT by furnishing information relative to their qualifications to perform the functions in accordance with the HMR. The registration statements are used by DOT to ensure that these persons possess the knowledge and skills necessary to perform the required functions and that they are performing the specified functions in accordance with the applicable regulations.

(2) Requalification and maintenance reports: These reports are prepared by persons who requalify or maintain cargo tanks. This information is used by cargo tank owners, operators and users, and DOT compliance personnel to verify that the cargo tanks are requalified, maintained and are in proper condition for the transportation of hazardous materials in accordance with the HMR.

(3) Manufacturers' data reports, certificates and related papers: These reports are prepared by cargo tank manufacturers and certifiers, and are used by cargo tank owners, operators, users and DOT compliance personnel to verify that a cargo tank motor vehicle was designed and constructed to meet all requirements of the applicable specification.

Affected Public: Manufacturers, assemblers, repairers, requalifiers, certifiers and owners of cargo tanks.

Annual Reporting and Recordkeeping Burden:

Number of Respondents: 41,366.

Total Annual Responses: 132,600.

Total Annual Burden Hours: 102,021.

Frequency of Collection: Periodically.

Title: Inspection and Testing of Portable Tanks and Intermediate Bulk Containers.

OMB Control Number: 2137-0018.

Summary: This information collection consolidates provisions for documenting qualifications, inspections, tests and approvals pertaining to the manufacture and use of portable tanks and intermediate bulk containers under various provisions of the HMR. It is necessary to ascertain whether portable tanks and intermediate bulk containers have been qualified, inspected and retested in accordance with the HMR. The information is used to verify that certain portable tanks and intermediate bulk containers meet required performance standards prior to their being authorized for use, and to document periodic requalification and testing to ensure the packagings have not deteriorated due to age or physical abuse to a degree that would render them unsafe for the transportation of hazardous materials. Applicable sections are as follows: § 173.32—requirements for the use of portable tanks; § 173.35—hazardous materials in intermediate bulk containers; § 178.245-6—certification markings for DOT-51 portable tanks; § 178.245-7—manufacturer's data report for DOT-51 portable tanks: § 178.255-14—certification markings for DOT-60 portable tanks; § 178.255-15—manufacturer's data report for DOT-60 portable tanks; § 178.270-14—certification marking of IM portable tanks; § 178.801—testing, retesting and recordkeeping for intermediate bulk containers; and § 180.352—periodic retests and inspections for intermediate bulk containers.

Affected Public: Manufacturers and owners of portable tanks and intermediate bulk containers.

Recordkeeping:

Number of Respondents: 8,770.

Total Annual Responses: 86,100.

Total Annual Burden Hours: 66,390.

Frequency of collection: On occasion.

Title: Hazardous Materials Incident Reports.

OMB Control Number: 2137-0039.

Summary: This collection is applicable when an incident occurs in transportation as prescribed in §§ 171.15 and 171.16 of the HMR. A Hazardous Materials Incident Report, DOT Form F 5800.1, must be completed by the person in physical possession of the hazardous material at the time a hazardous material incident occurs in transportation, such as a release of materials, serious accident, evacuation, or closure of a major transportation artery. Incidents meeting criteria in § 171.15 also require a telephonic report. This information collection enhances the Department's ability to evaluate the effectiveness of its regulatory program, determine the need for regulatory changes, and address emerging hazardous materials transportation safety issues. The requirements apply to all interstate and intrastate carriers engaged in the transportation of hazardous materials by rail, air, water, and highway.

Affected Public: Person in physical possession of a hazardous material at the time an incident occurs in transportation.

Annual Reporting and Recordkeeping:

Number of Respondents: 1,781.

Total Annual Responses: 17,810.

Total Annual Burden Hours: 23,746.

Frequency of collection: On occasion.

Title: Flammable Cryogenic Liquids.

OMB Control Number: 2137-0542.

Summary: Paragraph (h) of § 177.840 specifies certain safety procedures and documentation requirements for drivers of these motor vehicles. Provisions in § 177.840(l) of the HMR require the carriage on a motor vehicle of written procedures for venting flammable cryogenic liquids and for emergency response. These requirements are intended to ensure a high level of safety when transporting flammable cryogenics, which are characterized by extreme flammability and high compression ratio when in a liquid state.

Affected Public: Carriers of cryogenic materials.

Annual Reporting and Recordkeeping:

Total Respondents: 65.

Total Annual Responses:18,200.

Total Annual Burden Hours: 1,213.

Frequency of collection: On occasion.

Title: Testing Requirements for Non-bulk Packaging.

OMB Control Number: 2137-0572.

Summary: Detailed packaging manufacturing specifications have been replaced by a series of performance tests that a non-bulk packaging must be capable of passing before it is authorized to be used for transporting hazardous materials. The HMR require proof that packagings meet these testing requirements. Manufacturers must retain records of design qualification tests and periodic retests. Manufacturers must notify, in writing, persons to whom packagings are transferred of any specification requirements that have not been met at the time of transfer; and the type and dimensions of any closures, including gaskets, needed to satisfy performance test requirements. Subsequent distributors must also provide written notification. Performance-oriented packaging standards allow manufacturers and shippers much greater flexibility in selecting more economical packagings.

Affected Public: Each non-bulk packaging manufacturer that tests packagings to ensure compliance with the HMR and subsequent distributors.

Annual Reporting and Recordkeeping:

Annual Respondents: 5,000.

Annual Responses: 15,000.

Annual Burden Hours: 30,000.

Frequency of collection: On occasion.

Title: Container Certification Statement.

OMB Control Number: 2137-0582.

Summary: Shippers of explosives, in freight containers or transport vehicles by vessel, are required to certify on shipping documentation that the freight container or transport vehicle meets minimal structural serviceability requirements. This requirement is intended to ensure an adequate level of safety for transport of explosives aboard vessel and ensure consistency with similar requirements in international standards.

Affected Public: Shippers of explosives in freight containers or transport vehicles by vessel.

Annual Reporting and Recordkeeping:

Annual Respondents: 650.

Annual Responses: 890,000 HM containers & 4,400 explosive containers.

Annual Burden Hours: 14,908.

Frequency of collection: On occasion.

Title: Hazardous Materials Public Sector Training and Planning Grants.

OMB Control Number: 2137-0586.

Summary: Part 110 of 49 CFR sets forth the procedures for reimbursable grants for public sector planning and training in support of the emergency planning and training efforts of States, Indian tribes and local communities to manage hazardous materials emergencies, particularly those involving transportation. Sections in this part address information collection and recordkeeping with regard to applying for grants, monitoring expenditures, and reporting and requesting modifications.

Affected Public: State and local governments, Indian tribes.

Annual Reporting and Recordkeeping:

Annual Respondents: 66.

Annual Responses: 66.

Annual Burden Hours: 4,082.

Frequency of collection: On occasion.

Title: Response Plans for Shipments of Oil.

OMB Control Number: 2137-0591.

Summary: In recent years, several major oil discharges have damaged the marine environment of the United States. Under the authority of the Federal Water Pollution Control Act, as amended by the Oil Pollution Act of 1990, RSPA issued regulations in 49 CFR part 130 that require preparation of written spill response plans.

Affected Public: Carriers that transport oil in bulk, by motor vehicle or rail.

Annual Reporting and Recordkeeping:

Annual Respondents: 8,000.

Annual Responses: 8,000.

Annual Burden Hours: 10,560.

Frequency of collection: On occasion.

Title: Cargo Tank Motor Vehicles in Liquefied Compressed Gas Service.

OMB Control Number: 2137-0595.

Summary: These information collection and recordkeeping requirements pertain to the manufacture, certification, inspection, repair, maintenance, and operation of DOT specification MC 330, MC 331, and certain nonspecification cargo tank motor vehicles used to transport liquefied compressed gases. These information collection and recordkeeping requirements are intended to ensure certain cargo tank motor vehicles used to transport liquefied compressed gases are operated safely, and to minimize the potential for catastrophic releases during unloading and loading operations. They include: (1) Requirements for operators of cargo tank motor vehicles in liquefied compressed gas service to develop operating procedures applicable to unloading operations and carry the operating procedures on each vehicle; (2) inspection, maintenance, marking and testing requirements for the cargo tank discharge system, including delivery hose assemblies; and (3) requirements for emergency discharge control equipment on certain cargo tank motor vehicles transporting liquefied compressed gases that must be installed and certified by a Registered Inspector. (See sections 180.416(b)(d)(f); 180.405;180.407(h); 177.840(l); and 173.315(n)).

Affected Public: Carriers in liquefied compressed gas service, manufacturers and repairers.

Annual Reporting and Recordkeeping:

Annual Respondents: 6,958.

Annual Responses: 965,596.

Annual Burden Hours: 200,615.

Frequency of collection: On occasion.

Issued in Washington, DC on March 2, 2004.
Edward T. Mazzullo,
Director, Office of Hazardous Materials Standards.

[FR Doc. 04-5100 Filed 3-5-04; 8:45 am]

BILLING CODE 4910-60-P